DEPARTMENT OF THE INTERIOR

Bureau of Land Management

[LLCOS08000.L71220000.FR0000.LVTFC1300040-18X]

Notice of Realty Action: Proposed Conveyance of Public Lands for Airport Purposes in Mesa County, CO

AGENCY: Bureau of Land Management, Interior.

ACTION: Notice of realty action.

SUMMARY: The Bureau of Land Management (BLM) has examined certain public lands in Mesa County, Colorado totaling 188.04 acres, and found them suitable for conveyance to the Grand Junction Regional Airport Authority (Airport Sponsor) under the provisions of Sec. 516 of the Airport and Airway Improvement Act of 1982.

DATES: Written comments must be received no later than February 4, 2019.

ADDRESSES: Mail written comments to Wayne Werkmeister, Acting Field Manager, BLM Grand Junction Field Office, 2815 H Road, Grand Junction, CO 81506. Written comments may also be submitted electronically at BLM_CO_GJ_Public_Comments@blm.gov.

FOR FURTHER INFORMATION CONTACT: Robin Lacy, Realty Specialist, BLM Grand Junction Field Office, by email at rlacy@blm.gov or by telephone at 970-244-3028. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Airport Sponsor has requested the conveyance for a runway improvement project at the Grand Junction Regional Airport (Airport). The subject lands are adjacent to the northern boundary of the Airport. The proposal aligns with the Administration's priority to restore trust and be a good neighbor by engaging with the Airport Sponsor to provide ongoing, safe operations at the Airport that helps to modernize America's infrastructure. The proposal also aligns with the Administration's priority to increase revenues to support the Department and national interests through creating over 1,700 jobs for the local community over seven to ten years.

The BLM proposes to convey the following described lands:

Parcel A

Ute Principal Meridian

T. 1 N, R. 1 W,

Sec. 23, S½NE¼.

Parcel B

Ute Principal Meridian

T. 1 N, R. 1 E,

Sec. 19, lot 6;

Sec. 30, lots 6, 8, 9, and 11.

T. 1 N, R. 1 W,

Sec. 24, lots 2 and 3.

The area aggregates 188.04 acres.

The proposed conveyance conforms to the BLM Grand Junction Resource Management Plan (RMP), approved August 2015. The parcels are identified as appropriate for land tenure for airport purposes in the RMP Record of Decision (L&R-AU-07). The BLM used the land tenure criteria found in Sec. 203(a)(3) of the Federal Land Policy and Management Act (FLPMA), which states “disposal of such tract will serve important public objectives, including but not limited to, expansion of communities and economic development, which cannot be achieved prudently or feasibly on land other than public land and which outweigh other public objectives and values, including, but not limited to, recreation and scenic values, which would be served by maintaining such tract in Federal ownership.”

The Airport Sponsor, through the U.S. Department of Transportation (DOT), and the Federal Aviation Administration (FAA), has requested conveyance of the parcels in connection with the Airport Runway Improvement Project. The FAA determined that the public lands are necessary for the runway improvement project. The project involves correcting several non-standard airfield components to meet FAA design standards and enhance public safety, which includes replacing and relocating the primary commercial service runway, to meet FAA design standards and enhance public safety. The existing runway will remain in use until the new runway is constructed. The FAA has determined that the identified public lands are necessary for airport purposes.

The BLM proposes to convey title to the Airport Sponsor under Sec. 516 of the Airport and Airway Improvement Act of 1982 (49 U.S.C. 47125), and processed in accordance with regulations at 43 CFR part 2640. In accordance with the DOT Act Sec. 4(f) (49 U.S.C. 303), the Airport Sponsor will provide up to $250,000 to construct a parking/staging area on public land for recreation users visiting the Grand Valley Off-Highway Vehicle Open Area. The Grand Valley Open Area is adjacent to the airport and the parking/staging will mitigate removing the proposed conveyance lands from public recreational use. In conformance with the National Environmental Policy Act, the BLM prepared a site-specific Environmental Assessment (EA) document (DOI-BLM-CO-130-2013-0020-EA) for this Notice of Realty Action. A copy of the EA is available online at https://go.usa.gov/xPrMW. Based on the EA, the BLM approved a Finding of No Significant Impact and a Decision Record on March 15, 2018, to implement the conveyance of the lands.

By publishing this notice in the Federal Register, the above-described lands will segregate from all forms of appropriation under the public land laws, including the mining laws, except for conveyance under the Airport and Airway Improvement Act of 1982. The segregation will terminate automatically upon issuance of a patent or on December 21, 2019, whichever occurs first.

The patent, if issued, will contain the following reservations to the United States:

1. A right-of-way for ditches or canals constructed under the authority of the United States, pursuant to the Act of August 30, 1890 (43 U.S.C. 945); and

2. All minerals in the lands, together with the right to access, mine and remove the same under applicable laws and regulations. The Secretary of the Interior reserves the right to determine whether such mining and removal of minerals will interfere with the development, operation and maintenance of the airport.

Conveyance of the lands will be subject to valid existing rights of record, including those rights for power transmission line purposes granted by right-of-way No. COC-061164, pursuant to the Act of February 15, 1901 (43 U.S.C. 959).

Conveyance of the public lands will contain the following covenants:

1. The Airport Sponsor will use the conveyed property for airport purposes and will develop that property for airport purposes within five years or as set forth in the conveyance instrument, deed or quitclaim instrument. Any interim use will be subject to terms and conditions as set by the FAA.

2. The Airport Sponsor will operate the Airport, together with its appurtenant areas, buildings, and facilities, regardless of whether they are on the land being conveyed, as a public use airport on fair and reasonable terms and without unjust discrimination.

3. The Airport Sponsor will not grant or permit any exclusive right in the operation and use of the Airport, together with its appurtenant areas, buildings, and facilities, regardless of whether they are on the land being conveyed, as required by Sec. 303 of the Federal Aviation Act of 1938, as amended, and Sec. 308(a) of the Federal Aviation Act of 1958, as amended.

4. Any subsequent transfer of the conveyed property interest to another non-federal public entity will be subject to the terms, conditions and covenants set forth in the original instrument of conveyance. If the land conveyed is no longer needed for airport purposes, the land may revert to the U.S. Government.

5. In the event of a breach of any term, condition or covenant contained in the conveyance instrument, the Airport Sponsor will, on demand, take such action as required to transfer ownership of the conveyed premises to the U.S. Government.

6. The terms, conditions, covenants and other federally obligating provisions in conveyance instruments remain in force and effect as long as the land is held by the Airport Sponsor, its successors or assignees.

The EA, maps, terms and conditions, and Environmental Site Assessment are available for review. Interested parties may submit, in writing, any comments concerning the conveyance, including notifications of any encumbrances or other claims relating to these parcels, to the address above (see ADDRESSES section).

The BLM Colorado State Director or other authorized official of the Department of the Interior (DOI) will review adverse comments regarding the parcels and may sustain, vacate or modify this realty action, in-whole or in-part. In the absence of timely objections, this realty action will become the DOI's final determination.

In addition to publication in the Federal Register, the BLM will also publish this notice in the Grand Junction Daily Sentinel newspaper once a week for three consecutive weeks.

Before including your address, phone number, email address, or other personal identifying information in your comments, please be aware that the BLM may make your entire comment—including your personal identifying information—publicly available at any time.

While you can ask us, in your comment, to withhold your personal identifying information from public review, we cannot guarantee that we will be able to do so.

(Authority: 43 CFR part 2640)

Jamie Connell,
BLM Colorado State Director.

[FR Doc. 2018-27848 Filed 12-20-18; 8:45 am]

BILLING CODE 4310-JB-P